DEPARTMENT OF HEALTH AND HUMAN SERVICES

Health Resources and Services Administration

Agency Information Collection Activities: Submission for OMB Review; Comment Request

Correction

In notice document 2011-16127 appearing on page 37821 in the issue of Tuesday, June 28, 2011, make the following correction:

In the table on page 37821, in column one, row three, “4353”should read “2353.” A corrected table should appear as set forth below.

The annual estimate of burden is as follows:

Respondents | Number of respondents | Number of responses/ respondent | Average hours per response | Total burden hours
Survey respondents | 2000 | 1 | .166 | 332
Screened households | 2353 | 1 | .016 | 38
Total | 2353 |  |  | 370

[FR Doc. C1-2011-16127 Filed 7-18-11; 8:45 am]

BILLING CODE 1505-01-D